DEPARTMENT OF ENERGY

Weatherization Assistance Program: Notice of Listening Session

AGENCY: Office of State and Community Energy Programs, Department of Energy.

ACTION: Notice of virtual listening session.

SUMMARY: This notice announces an upcoming listening session hosted by the U.S. Department of Energy's (DOE) Weatherization Assistance Program (WAP). This session will be held virtually via webinar.

DATES: DOE will hold a listening session via webinar on Wednesday, May 8, 2024, from 2 p.m.-5 p.m. ET.

ADDRESSES: For webinar registration information, participant instructions, and information about the capabilities available to webinar participants, please visit https://us06web.zoom.us/webinar/register/WN_W7RoXnkTTG-jsLdrvzaOLg

FOR FURTHER INFORMATION CONTACT: Ms. Carrie Smith, Program Manager Readiness and Retrofit, Weatherization Assistance Program, U.S. Department of Energy, Weatherization Assistance Program, 1000 Independence Avenue SW, Washington, DC 20585-0121, email: Carrie.Smith@hq.doe.gov, Phone: (240) 982-0033.

SUPPLEMENTARY INFORMATION: The primary focus of this listening session will be to discuss potential updates to WAP's regulations at 10 CFR part 440. WAP is in the process of considering various regulatory updates in response to recent congressional direction and previously received stakeholder feedback. The listening session will be held virtually via webinar.

Signing Authority

This document of the Department of Energy was signed on April 22, 2024, by David Crane, Under Secretary for Infrastructure, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on April 23, 2024.
Treena V. Garrett,
Federal Register Liaison Officer, U.S. Department of Energy.

[FR Doc. 2024-08987 Filed 4-25-24; 8:45 am]

BILLING CODE 6450-01-P